DEPARTMENT OF COMMERCE

National Oceanic and Atmospheric Administration

RIN 0648-XB19

Issuance of Permit for Incidental Take of Threatened or Endangered Species

AGENCY: National Marine Fisheries Service (NMFS), National Oceanic and Atmospheric Administration (NOAA), Commerce.

ACTION: Notice.

SUMMARY: Notice is hereby given that on June 12, 2007, NMFS issued Permit 1613 for incidental take of threatened and endangered species, to the Green Diamond Resource Company, of northern California, pursuant to the Endangered Species Act of 1973, as amended. Copies of Incidental Take Permit 1613 and associated decision documents are available upon request.

ADDRESSES: If you would like copies of any of the above documents, please contact the Protected Resources Division of NOAA's National Marine Fisheries Service, Southwest Region, 1655 Heindon Road, Arcata, CA 95521 (ph: 707-825-5163, fax: 707-825B-840).

FOR FURTHER INFORMATION CONTACT: John P. Clancy at the above Arcata, California, address, telephone number (707-825-5175), or e-mail, john.p.clancy@noaa.gov.

SUPPLEMENTARY INFORMATION: Section 9 of the Endangered Species Act (Act) and Federal regulations prohibit take of fish and wildlife species listed as endangered or threatened. Under the Act, the term “take” means to harass, harm, pursue, hunt, shoot, wound, kill, trap, capture, or collect, or to attempt to engage in any such conduct. NMFS has further defined “harm” as an act which actually kills or injures fish or wildlife, and emphasizes that such acts may include “significant habitat modification or degradation which actually kills or injures fish or wildlife by significantly impairing essential behavioral patterns, including breeding, spawning, rearing, migrating, feeding, or sheltering.” NMFS may, under limited circumstances, issue permits to authorize take that is incidental to, and not the purpose of, carrying out an otherwise lawful activity. Regulations governing permits for the incidental taking of threatened and endangered species are found in 50 CFR 222.307.

On June 12, 2007, NMFS issued Permit 1613 to the Green Diamond Resource Company for the incidental take of threatened and endangered species, pursuant to section 10(a)(1)(B) of the Act. Permit 1613 was issued after the following determinations were made: the permit application was submitted in good faith; all permit issuance criteria were met, including the requirement that granting the permit will not jeopardize the continued existence of the species; and the permit was consistent with the Act and applicable regulations, including a thorough review of the environmental effects of the action and alternatives, pursuant to the National Environmental Policy Act of 1969. Permit 1613 authorizes incidental take of fish in two Evolutionarily Significant Units (ESUs) and one Distinct Population Segment (DPS) listed under the Act: California Coastal Chinook salmon (Oncorhynchus tshawytscha) ESU, Southern Oregon/Northern California Coast coho salmon (O. kisutch) ESU, and Northern California steelhead (O. mykiss) DPS. Permit 1613 also authorizes incidental take of fish in three unlisted ESUs (Klamath Mountains Province steelhead ESU, Upper Klamath/Trinity Rivers Chinook salmon ESU, and Southern Oregon and Northern California Coastal Chinook salmon ESU) should these species be listed during the 50-year term of the permit.

Copies of Permit 1613 and associated documents are available upon request. Decision documents for Permit 1613 include Findings and Recommendations; a Biological Opinion; and a Record of Decision.

Dated: June 28, 2007.
Marta Nammack,
Acting Chief, Endangered Species Division, Office of Protected Resources, NOAA's National Marine Fisheries Service.

[FR Doc. E7-13061 Filed 7-3-07; 8:45 am]

BILLING CODE 3510-22-S